DEPARTMENT OF AGRICULTURE

Office of the Secretary

Privacy Act of 1974; New System of Records

AGENCY: Office of the Secretary, USDA.

ACTION: Notice of New System of Records; request for comment.

SUMMARY: In accordance with the Privacy Act of 1974, as amended, the U.S. Department of Agriculture (USDA) is proposing to add a new Privacy Act system of records to its inventory of records systems. This system is known as the National Recreation Reservation System (NRRS) USDA/FS-55, and it will make it easier for interested individuals to make advance reservations for recreation opportunities on Federal lands. USDA invites public comment on this new records system.

DATES: Comments must be received, in writing, on or before May 29, 2008.

EFFECTIVE DATE: This system will be adopted without further notice on June 30, 2008, unless modified to respond to comments received from the public and published in a subsequent notice.

ADDRESSES: Send written comments to the Forest Service Privacy Act Officer, Forest Service, U.S. Department of Agriculture, 1400 Independence Avenue, SW., Mail Stop 0003, Washington, DC 20250-0003. Comments may also be sent via e-mail to wo_foia@fs.fed.us, or via facsimile to (703) 605-5104.

FOR FURTHER INFORMATION CONTACT: Martha Ketelle, Assistant Director, Recreation, Heritage & Visitors, Forest Service, U. S. Department of Agriculture, 1400 Independence Avenue, SW., Mailstop 1125, Washington, DC 20250, at (202) 205-1348, or via e-mail to mketelle@fs.fed.us, or via facsimile to (202) 205-1145. Additional information concerning the National Recreation Reservation System may be obtained on the Internet at http://www.fs.fed.us/passespermits/about-rec-fees.shtml.

SUPPLEMENTARY INFORMATION: Pursuant to the Privacy Act (5 U.S.C. 552a), USDA is proposing to add a new system of records entitled the National Recreation Reservation System (NRRS) USDA/FS-55 that will provide the public with a Web-based electronic forms system to make reservations. The NRRS will be managed by the U.S. Forest Service, an agency of USDA. NRRS will allow the U.S. Forest Service to electronically charge individual credit cards for use of National Forest lands. NRRS will verify who paid a recreation fee, monitor recreation fee payments, and the use of Government facilities, and appropriately schedule rentals of facilities. An estimated 2,000,000 individual records are expected to be collected in the system and stored on servers located in Ballston Spa, New York. A Federal contractor is currently responsible for managing the NRRS under the management, supervision, and authority of the U.S. Forest Service. The USDA Forest Service is the administrative agency for this system, but it may be used by other agencies that manage public lands. The USDA invites comments on all portions of this notice. Those who submit comments should be aware that all comments, including names and addresses, when provided, are placed in the record and are available for public inspection. Individuals wishing to inspect comments should call the Forest Service Freedom of Information Act and Privacy Act Office at (202) 205-1542 to make arrangements.

A report on the new system of records, required by 5 U.S.C. 552a(r) as implemented by Office of Management and Budget Circular A-130, was sent to the Chairman, Committee on Homeland Security and Governmental Affairs, United States Senate; the Chairman, Committee on Oversight and Government Reform, U.S. House of Representatives; and the Administrator, Office of Information and Regulatory Affairs, Office of Management and Budget.

Dated: April 17, 2008.
Edward T. Schafer,
Secretary.

System Name:

National Recreation Reservation System, (NRRS) USDA/FS-55.

Security Classification:

None.

System Location:

These records are collected in a Web-based system located on servers maintained by a Federal contractor in Ballston Spa, New York. Paper records for use with the miscellaneous recreation system are maintained at the Regional Offices, Forest Supervisors Offices, and District Ranger Offices. The addresses for the Regional Foresters and Forest Supervisors are listed in 36 CFR Part 200, Subpart A; and addresses for District Rangers are in the telephone directory of the applicable locality under the heading, United States Government, Department of Agriculture, Forest Service.

Categories of Individuals covered by the system:

Individuals covered by the system include members of the public who register online to receive information about the program or make advanced reservations for recreation campgrounds, activities, wilderness permits, tours, and ticketing on public lands that are managed by the United States Department of Agriculture (Forest Service); the United States Army Corps of Engineers; and the United States Department of the Interior, (National Park Service, Bureau of Land Management, and Bureau of Reclamation). Individuals covered by the system also include Federal concessionaires, contractors, and volunteers under supervision by Federal employees who are responsible for managing data specific to recreation site inventory.

Categories of records in the system:

The system consists of recreation inventory, reservation information, customers' names, addresses, and credit card information (for individuals securing reservations), previous booking data, and agency-specific information necessary to manage the program and maintain inventory data.

Authority for maintenance of the system:

The Federal Lands Recreation Enhancement Act, 16 U.S.C. 6801-6814. The Organic Act of 1897, as amended (FSM 1021.11a), instructs the Secretary of Agriculture to preserve and to regulate occupancy and use of the National Forests (16 U.S.C. 473-478, 479-482, 551). Prohibitions on the use of National Forest lands are contained in 16 U.S.C. 475; the Term Permit Act of 1915. (38 Stat. 1101, as amended, 16 U.S.C. 497); the Multiple Use Sustained-Yield Act of June 12, 1960 (74 Stat. 215, as amended; 16 U.S.C. 528-531); the 1964 Wilderness Act (16 U.S.C. 1131-1136); the National Historic Preservation Act of 1966. (Pub. L. 89-665; 80 Stat. 915, 16 U.S.C. 470 et seq.); the Land and Water Conservation Fund (L&WCF) Act of 1965, as amended (Pub. L. 93-303, June 7, 1974; 78 Stat. 897, as amended; 16 U.S.C. 460l (4) to 460l (11m); 23 U.S.C. 120 (note), and the Omnibus Budget Reconciliation Act of August 10, 1993 (Pub. L. 103-66, 107 Stat. 312).

Purpose(s):

The purpose of this system of records is to allow individuals to make advance reservations for Federal recreation opportunities, which include recreation campgrounds and other recreation sites, various recreation activities, wilderness permits, tours, and ticketing for several Federal agencies managing public lands; and to enhance individual access to Government information and services regarding Federal recreation opportunities.

Routine uses of records maintained in the system, including categories of users and the purposes of such use:

(1) U.S. Department of Agriculture, Forest Service (USDA/FS) may share information about reservation, recreation, and revenue statistics with authorized individuals at participating agencies. These agencies include the United States Army Corps of Engineers and the United States Department of the Interior (National Park Service, Bureau of Land Management, and Bureau of Reclamation) and their cooperators and contractors who are performing a service related to this system of records, and who need to have access to the records in order to perform the activity. Recipients shall be required to comply with the requirements of the Privacy Act of 1974, set out at 5 U.S.C. 552a(m).

(2) USDA/FS may disclose information from this system of records to the appropriate agency, whether Federal, State, or local charged with the responsibility of investigating or prosecuting a violation of law, or of enforcing or implementing a statute, rule, regulation or order issued pursuant thereto, of any record within this system when information available indicates a violation or potential violation of law, whether civil, criminal, or regulatory in nature, and whether arising by general statute or particular program statute, or by rule, regulation, or order issued pursuant thereto.

(3) USDA/FS may disclose information from this system of records to a court, magistrate, or administrative tribunal, or to opposing counsel in a proceeding before any of the above, of any record within the system, which constitutes evidence in that proceeding, or which is sought in the course of discovery.

(4) USDA/FS may disclose information from this system of records to a congressional office from the record of an individual provided that individual gave the congressional office permission to inquire on his or her behalf.

(5) USDA/FS may disclose information from this system of records to the National Archives and Records Administration and to General Services Administration, which are disclosures authorized pursuant to 44 U.S.C. 2904 and 2906.

(6) USDA/FS may disclose information to contractors and other parties it engages to assist it in administering the program. Such contractors and other parties will be bound by the nondisclosure provisions of the Privacy Act.

(7) USDA/FS may disclose credit card information to process customer payments for reservations.

(8) USDA/FS may disclose information to appropriate agencies, entities, and persons when (a) The agency suspects or has confirmed that the security or confidentiality of information in the system of records has been compromised; (b) USDA has determined that as a result of the suspected or confirmed compromise there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

Disclosure to consumer reporting agencies:

None, with exception to disclose any breach of security as per Payment Card Industry Data Security Standard requirements and Federal and State laws.

Policies and practices for storing, retrieving, accessing, retaining, and disposing of records in the system:

Storage:

Electronic information is stored in a database hosted on secure servers located in Ballston Spa, New York. Paper records are stored primarily in file folders.

Retrieval:

Data is retrieved electronically by name of individual, address, credit card number, reservation number and phone number. Paper records are maintained under each individual's name.

Safeguards:

Access to the records is available only by username and password and only for those individuals with appropriate system roles. All records containing personal information will be maintained in secured file cabinets and secured computer rooms and/or tape libraries that can be accessed only by authorized personnel. Access to electronic records is controlled through a system of computer access identification and authorizations utilizing passwords. Access to the data is controlled by database management system software. Any personal data transmitted over a network is encrypted.

Retention and Disposal:

Credit card information is purged 13 months after the departure date. Individually -identifiable information about a reservation will be retained after the date of the reservation, until expiration of the period for which a refund may be requested. All records are retained and disposed of in accordance with the appropriate General Records Schedules of the National Archives and Records Administration.

System Managers(s) and Address:

Chief Information Officer, U.S. Department of Agriculture, 1400 Independence Avenue, SW., Washington, DC. 20250

Notification Procedures:

Any individual may request information regarding this system of records or information as to whether the system contains records pertaining to him or her from the system manager listed above. The request should be in writing and should contain the name and address of the requester.

Record Access Procedures:

Use the same procedures as those prescribed in Notification Procedures.

Contesting Record Procedures:

Use same procedures as those prescribed in Notification Procedures.

Record Source Categories:

Personal information in this system will be provided by individual customers. The Inventory data will be provided by data stewards from the following Federal agencies: United States Army Corps of Engineers, United States Department of Agriculture (Forest Service), and United States Department of the Interior (National Park Service, Bureau of Land Management, and Bureau of Reclamation). For trip planning, data will be provided by the following: United States Department of the Interior (U.S. Fish and Wildlife Service), National Archives and Records Administration, United States Department of Commerce (National Oceanic and Atmospheric Administration), Smithsonian Institution, United States Department of Transportation (Federal Highway Administration), and the Tennessee Valley Authority; with links to Travelocity and maps from Google.

Exemption Claimed for the System:

None.

[FR Doc. E8-9325 Filed 4-28-08; 8:45 am]

BILLING CODE 3410-11-P